DEPARTMENT OF TRANSPORTATION

Federal Aviation Administration

14 CFR Part 39

[Docket No. 2003-NM-46-AD; Amendment 39-14392; AD 2005-24-12]

RIN 2120-AA64

Airworthiness Directives; Bombardier Model CL-600-2C10 (Regional Jet Series 700, 701, & 702) Airplanes

AGENCY: Federal Aviation Administration (FAA), Department of Transportation (DOT).

ACTION: Final rule.

SUMMARY: This amendment adopts a new airworthiness directive (AD), applicable to certain Bombardier Model CL-600-2C10 (Regional Jet Series 700, 701, & 702) airplanes, that requires an inspection of the thrust reverser cascades for correct installation; removing and reinstalling the cascade in the correct location, if necessary; and reworking the thrust reverser cascades to add locating spigots (metal protrusions) to each cascade; as applicable. This action is necessary to prevent asymmetric reverse thrust and consequent loss of control of the airplane during reverse thrust operation. This action is intended to address the identified unsafe condition.

DATES: Effective January 9, 2006.

The incorporation by reference of certain publications listed in the regulations is approved by the Director of the Federal Register as of January 9, 2006.

ADDRESSES: The service information referenced in this AD may be obtained from Bombardier, Inc., Canadair, Aerospace Group, P.O. Box 6087, Station Centre-ville, Montreal, Quebec H3C 3G9, Canada. This information may be examined at the Federal Aviation Administration (FAA), Transport Airplane Directorate, Rules Docket, 1601 Lind Avenue, SW., Renton, Washington; or at the FAA, New York Aircraft Certification Office, 1600 Stewart Avenue, suite 410, Westbury, New York.

FOR FURTHER INFORMATION CONTACT: Rocco Viselli or James Delisio, Aerospace Engineers, New York Aircraft Certification Office, FAA, Engine and Propeller Directorate, 1600 Stewart Avenue, suite 410, Westbury, New York 11590; telephone (516) 228-7331; fax (516) 794-5531.

SUPPLEMENTARY INFORMATION: A proposal to amend part 39 of the Federal Aviation Regulations (14 CFR part 39) to include an airworthiness directive (AD) that is applicable to Bombardier Model CL-600-2C10 (Regional Jet Series 700, & 701) series airplanes was published in the Federal Register on May 19, 2004 (69 FR 28865). That action proposed to require an inspection of the thrust reverser cascades for correct installation; removing and reinstalling the cascade in the correct location, if necessary; and reworking the thrust reverser cascades to add locating spigots (metal protrusions) to each cascade; as applicable.

Comments

Interested persons have been afforded an opportunity to participate in the making of this amendment. Due consideration has been given to the comments received.

Request To Clarify Intent of Paragraph (b) of the Proposed AD

The commenter requests clarification on the inspection of the cascades upon the reinstallation of a cascade. The commenter wonders: “In the event only one cascade is removed and reinstalled, does this paragraph require performance of the entire service bulletin ([Bombardier Alert Service Bulletin] A670BA-78-001) meaning both [engine] nacelles, on the corresponding nacelle, or for the individual cascade?'

We agree that clarification may be needed. We intended only for the corresponding nacelle or for the individual cascade to be inspected for correct installation when a cascade is removed and reinstalled. We have not changed the AD in this regard.

Request To Change the Applicability of Paragraph (b)

The commenter requests that the applicability of paragraph (b) of the proposed AD be changed since the applicability of paragraph (a) is limited to airplanes with serial numbers (S/N) 10005 through 10040. The commenter suggests revising paragraph (b) to be applicable only to cascades that have been removed and reinstalled.

We agree that the reasoning for the applicability of paragraph (b) of this AD needs to be clarified. However, we disagree that paragraph (b) needs to be revised. Airplanes with S/N 10005 through 10040 inclusive may have been delivered to customers with incorrectly installed cascades (before awareness of the incorrect cascade installation occurred). Airplanes with S/N 10003, 10004, and 10041 through 10116 were subject to a pre-delivery inspection to ensure that the airplanes were delivered with correctly configured cascades. However, those airplanes were delivered with cascades that could be mis-installed during maintenance actions. Airplanes with S/N 10117 and subsequent were delivered with cascades that were modified to help prevent mis-installation of the cascades. We have not changed the AD in this regard.

Request To Revise Cost Impact Statement

The commenter states that the cost impact statements do not reflect those in the referenced service bulletins. We infer that the commenter requests that the cost estimates be revised.

We partially agree to revise the cost impact statement. We erroneously stated the per nacelle cost to perform the modification as the per airplane cost. We have revised the statement to state the correct per airplane cost for the modification. However, we do not agree to revise the cost estimate for the inspection. We only include costs directly related to the required action. While the service bulletin includes an estimate on the cost to access and close-up the inspection area and other actions not directly a part of the inspection, we do not include those costs in our estimate. Those actions can be used in combination with other ADs, service bulletins, or maintenance actions that use the same access points.

Request To Delete Paragraph (e) of This AD

The commenter states that due to the amount of work hours involved in modifying the cascades, the applicability of paragraph (e) of the proposed AD should be modified to be limited only to cascades that have been removed and reinstalled or replaced per the inspection criteria in paragraph (b) of the proposed AD.

We do not agree to eliminate or modify paragraph (e) of this AD. The actions of paragraphs (b) and (e) of this AD are intended to differentiate between installation and reinstallation situations. For instance, a situation where an operator removes a cascade to gain access to an engine component may be considered a “reinstallation” situation, and the operator would be required to inspect the cascade installation to ensure that the removed cascade was reinstalled correctly. In that case, paragraph (b) would apply and the operator would not need to modify the cascade per paragraph (e). In contrast, if an operator was removing a cascade to do an action on it or to replace the cascade with another cascade, then the operator would be required to ensure that the cascade being installed has been modified in accordance with paragraph (e) and would not be permitted to only inspect for proper installation. The modification in paragraph (e) is intended as a terminating action for the inspections required by this AD. We have not changed the AD in this regard.

Parts Availability

The commenter also states that spares are not readily available. The commenter adds that the lead time (order to delivery) for kits to modify the thrust reverser cascades is 10 to 12 weeks. We infer that the commenter wants the compliance time for the modified parts required in paragraph (e) of this AD to be extended.

We agree to extend the compliance time of paragraph (e) of this AD and have modified paragraph (e) to have a compliance time of 90 days after the effective date of this AD. We have evaluated the level of risk and have determined that extending the compliance time for paragraph (e) of this AD will not adversely affect safety. Should it be necessary, paragraph (g) of this AD provides operators the opportunity to request an additional extension of the compliance time if data (such as proof that parts have been ordered) are presented to justify such an extension.

Request To Revise Reference in Note 2

The commenter notes that the Bombardier service bulletin reference in Note 2 is missing a “B” from the service bulletin number.

We agree. We have changed the reference in Note 2 to correctly reference the Bombardier service bulletin.

Explanation of Change to Applicability

We have revised the applicability of the existing AD to identify model designations as published in the most recent type certificate data sheet for the affected models.

Clarification of Alternative Method of Compliance (AMOC) Paragraph

We have revised this action to clarify the appropriate procedure for notifying the principal inspector before using any approved AMOC on any airplane to which the AMOC applies.

Clarification of Previous Difference With the Canadian Airworthiness Directive

In the NPRM, we differed from the Canadian airworthiness directive available at that time (CF-2002-30, dated May 22, 2002) and proposed requiring the modification actions in paragraph (d) of this AD. We also noted that Transport Canada Civil Aviation (TCCA) was considering superseding their airworthiness directive to mandate the same actions we specified in paragraph (d). On June 22, 2004, the TCCA issued a revised Canadian airworthiness directive (CF-2002-30R1) that added a requirement for the modification that is the same as the actions of paragraph (d). We no longer differ from the Canadian airworthiness directive. We have revised Note 3 of this AD to refer to the revised Canadian airworthiness directive.

Conclusion

After careful review of the available data, including the comments noted above, the FAA has determined that air safety and the public interest require the adoption of the rule with the changes described previously. The FAA has determined that these changes will neither increase the economic burden on any operator nor increase the scope of the AD.

Cost Impact

The FAA estimates that 102 airplanes of U.S. registry will be affected by this AD. The average labor rate is $65 per work hour.

It will take approximately 1 work hour per airplane to accomplish the inspection. Based on these figures, the cost impact of the inspection on U.S. operators is estimated to be $6,630, or $65 per airplane, per inspection cycle.

It will take approximately 6 work hours per airplane to accomplish the modification. Based on these figures, the cost impact of the rework on U.S. operators is estimated to be $39,780, or $390 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in Subtitle VII, Part A, Subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2005-24-12 Bombardier, Inc (Formerly Canadair): Amendment 39-14392. Docket No. 2003-NM-46-AD.

Applicability: Model CL-600-2C10 (Regional Jet Series 700, 701, & 702) airplanes, serial numbers 10003 through 10116 inclusive, certificated in any category.

Compliance: Required as indicated, unless accomplished previously.

To prevent asymmetric reverse thrust and consequent loss of control of the airplane during reverse thrust operation, accomplish the following:

Inspection

(a) For airplanes with serial numbers 10005 through 10040 inclusive: Within 72 flight hours or 30 days from the effective date of the AD, whichever occurs first, perform a general visual inspection of the thrust reverser cascades for correct installation, per the Accomplishment Instructions of Bombardier Alert Service Bulletin A670BA-78-001, Revision A, dated April 23, 2002.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Repetitive Inspections for Certain Airplanes

(b) For airplanes with serial numbers 10003 through 10116 inclusive: Each time the thrust reverser cascade is removed and reinstalled, perform the action specified in paragraph (a) of this AD.

Corrective Action

(c) If any thrust reverser cascade is found to be incorrectly installed during any inspection required by paragraph (a) or (b) of this AD, before further flight, remove and reinstall the cascade in the correct location, per the Accomplishment Instructions of Bombardier Alert Service Bulletin A670BA-78-001, Revision A, dated April 23, 2002.

Terminating Action

(d) Within 6,000 flight hours from the effective date of the AD, rework the thrust reverser cascades by accomplishing all the actions in the Accomplishment Instructions of Bombardier Service Bulletin 670BA-78-003, dated January 22, 2004. Accomplishment of the rework terminates the requirements of paragraphs (a) and (b) of this AD.

Note 2: Bombardier Service Bulletin 670BA-78-003, references GE Aircraft Engines Service Bulletin 670GE-78-008, dated December 17, 2003, as an additional source of service information for the accomplishment of the rework.

Parts Installation

(e) Except as provided by paragraphs (b) and (c) of this AD, within 90 days after the effective date of this AD, no person may install on any airplane a thrust reverser cascade with powerplant system, serial numbers PS0003 through PS0116 inclusive, left- and right-hand, unless it has been reworked per Bombardier Service Bulletin 670BA-78-003, dated January 22, 2004.

Previous Actions

(f) Inspections accomplished before the effective date of this AD per Bombardier Alert Service Bulletin A670BA-78-001, dated April 19, 2002, are considered acceptable for compliance with paragraphs (a) and (b) of this AD.

Alternative Methods of Compliance (AMOCs)

(g)(1) In accordance with 14 CFR 39.19, the Manager, New York Aircraft Certification Office, FAA, is authorized to approve AMOCs for this AD.

(2) Before using any AMOC approved in accordance with § 39.19 on any airplane to which the AMOC applies, notify the appropriate principal inspector in the FAA Flight Standards Certificate Holding District Office.

Incorporation by Reference

(h) Unless otherwise specified in this AD, the actions must be done in accordance with Bombardier Alert Service Bulletin A670BA-78-001, Revision A, dated April 23, 2002; and Bombardier Service Bulletin 670BA-78-003, dated January 22, 2004; as applicable. This incorporation by reference was approved by the Director of the Federal Register in accordance with 5 U.S.C. 552(a) and 1 CFR part 51. To get copies of this service information, contact Bombardier, Inc., Canadair, Aerospace Group, P.O. Box 6087, Station Centre-ville, Montreal, Quebec H3C 3G9, Canada. To inspect copies of this service information, go to the FAA, Transport Airplane Directorate, 1601 Lind Avenue, SW., Renton, Washington; or to the FAA, New York Aircraft Certification Office, 1600 Stewart Avenue, suite 410, Westbury, New York; or to the National Archives and Records Administration (NARA). For information on the availability of this material at the NARA, call (202) 741-6030, or go to http://www.archives.gov/federal_register/code_of_federal_regulations/ibr_locations.html.

Note 3: The subject of this AD is addressed in Canadian airworthiness directive CF-2002-30R1, dated June 22, 2004.

Effective Date

(i) This amendment becomes effective on January 9, 2006.

Issued in Renton, Washington, on November 18, 2005.
Kalene C. Yanamura,
Acting Manager, Transport Airplane Directorate, Aircraft Certification Service.

[FR Doc. 05-23511 Filed 12-2-05; 8:45 am]

BILLING CODE 4910-13-P